DEPARTMENT OF TRANSPORTATION

Office of the Secretary

Aviation Proceedings, Agreements Filed the Week Ending December 6, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0375.

Date Filed: December 3, 2008.

Parties: Members of the International Air Transport Association.

Subject: Mail Vote 578—Resolution 010g, TC23 Middle East-TC3, Special Passenger Amending Resolution (Memo 0400).

Intended Effective Date: 1 April 2009.

Barbara J. Hairston,
Supervisory Dockets Officer, Alternate Federal Register Liaison.

[FR Doc. E9-193 Filed 1-8-09; 8:45 am]

BILLING CODE 4910-9X-P